FEDERAL EMERGENCY MANAGEMENT AGENCY

44 CFR Part 67

Final Flood Elevation Determinations

AGENCY: Federal Emergency Management Agency (FEMA).

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street SW., Washington, DC 20472, (202) 646-3461, or (E-mail) matt.miller@fema.gov.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Acting Administrator, Federal Insurance and Mitigation Administration certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD).
CALIFORNIA
Martinez (City), Contra Costa County, (FEMA Docket No. B-7408)
Arroyo Del Hambra Creek:
Just upstream of John Muir Parkway | *116
Approximately 2, 000 feet upstream of Alhambra Avenue | *180
Line A. DA-40:
Approximately 950 feet downstream of Howe Road | *22
Approximately 75 feet downstream of Howe Road | *23
Maps are available for inspection at City of Martinez, City Hall, 525 Henrietta Street, Martinez, California.
MISSOURI
Newton County (Unincorporated Areas), (FEMA Docket No. B-7258)
Culpepper Creek:
Approximately 1,150 feet downstream of Webert Road | *1,037
Approximately 100 feet downstream of Old County Highway East | *1,050
Approximately 2,800 feet upstream of Main Street | *1,075
Wolf Creek:
At confluence with Culpepper Creek | *1,044
Approximately 3,050 feet upstream of confluence with | *1,059
Maps are available for inspection at Newton County Courthouse, Emergency Management Office, 101 South Wood Street at Main Street, Neosho, Missouri.
———
Grandby (City), Newton County, (FEMA Docket No. B-7270)
Culpepper Creek:
Approximately 400 feet upstream of confluence with Shoal Creek | *1,034
Approximately 100 feet downstream of Old County Highway E | *1,050
Approximately 120 feet upstream of Main Street | *1,072
Wolf Creek:
Approximately 3,450 feet downstream of Vance Street | *1,048
Approximately 1,150 feet upstream of Vance Street | *1,082
Maps are available for inspection at the City of Grandby, City Hall, 302 North Main Street, Grandby, Missouri.
OREGON
Gresham (City), Multnomah County, (FEMA Docket No. B7417)
Kelly Creek:
Approximately 130 feet downstream of Division Street | *335
Approximately 400 feet upstream of NE Kane Road | *353
Approximately 410 feet downstream of SE El Camino Drive | *355
Approximately 430 feet upstream of Powell Valley Road | *387
Approximately 670 feet downstream of SE Ironwood Way | *416
Approximately 630 feet upstream of 282nd Street | *446
Maps are available for inspection at the Community and Economic Development Department, 1333 NW Eastman Parkway, Gresham, Oregon.

Source of flooding and location | #Depth in feet above ground. *Elevation in feet (NGVD). | Communities affected
IOWA
FEMA Docket No. (B-7401)
Missouri River:
Approximately 5.3 miles downstream of McCandles Cleghorn outlet | *1,032 | Monona County (Uninc. Areas).
Approximately 17.9 miles upstream of Iowa Highway 175(I) | *1,065 | Monona County (Uninc. Areas).
McCandless Cleghorn Drainage Ditch:
At its confluence with the Missouri River | *1,039 | Monona County (Uninc. Areas).
At 235th Street | *1,044 | Monona County (Uninc. Areas), City of Onawa.
Approximately 1,000 feet downstream of 220th Street | *1,051 | Monona County (Uninc. Areas), City of Onawa.
At intersection of West Street and Walnut Street | *1,058 | Monona County (Uninc. Areas), City of Whiting.
Approximately 1,400 feet upstream of County Highway 45 | *1,061 | Monona County (Uninc. Areas), City of Whiting.
Just downstream of County Highway 45 | *1,063 | Monona County (Uninc. Areas).
ADDRESSES
Monona County (Unincorporated Areas)
Maps are available for inspection at the Monona County Zoning Office, Chairman, Monona County Board of Supervisors, 610 Iowa Avenue, Onawa, Iowa.
City of Onawa
Maps are available for inspection at the Leon Valley City Hall, 914 Diamond Street, Onawa, Iowa.
City of Whiting
Maps are available for inspection at City Hall, 605 Whittier Street, Whiting, Iowa.

(Catalog of Federal Domestic Assistance No. 83.100, ``Flood Insurance.'')
Dated: December 11, 2001.
Robert F. Shea,
Acting Administrator, Federal Insurance and Mitigation Administration.

[FR Doc. 01-31033 Filed 12-17-01; 8:45 am]

BILLING CODE 6718-04-P